ENVIRONMENTAL PROTECTION AGENCY

[EPA-HQ-OPPT-2018-0436; FRL-9998-25]

Di-isononyl Phthalate (DINP); Manufacturer Request for Risk Evaluation Under the Toxic Substances Control Act (TSCA); Notice of Availability and Request for Comments

AGENCY: Environmental Protection Agency (EPA).

ACTION: Notice.

SUMMARY: EPA is announcing the availability of and soliciting public comment on a manufacturer request for a risk evaluation of di-isononyl phthalate (DINP) under the Toxic Substances Control Act (TSCA). The request was made by Evonik Corporation, ExxonMobil Chemical Company and Teknor Apex, through the American Chemistry Council's High Phthalates Council. EPA conducts risk evaluations to determine whether a chemical substance presents an unreasonable risk of injury to health or the environment without consideration of costs or other non-risk factors, including an unreasonable risk to potentially exposed or susceptible subpopulations, under the conditions of use. In the docket associated with this request is the manufacturer request for an EPA conducted risk evaluation and possible additional conditions of use EPA has identified for inclusion within the scope of a risk evaluation of DINP. After considering comments received in response to this solicitation, EPA will make a decision whether to grant or deny the manufacturer request. All TSCA risk evaluations, whether EPA-initiated or manufacturer-requested, will be conducted in the same manner.

DATES: Comments must be received on or before October 3, 2019.

ADDRESSES: Submit your comments, identified by docket identification (ID) number EPA-HQ-OPPT-2018-0436, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Darlene Leonard, National Program Chemicals Division, Office of Pollution Prevention and Toxics, Environmental Protection Agency, Mail Code 7404T, 1200 Pennsylvania Ave. NW, Washington, DC 20460-0001; telephone number: (202) 566-0516; email address: leonard.darlene@epa.gov.

SUPPLEMENTARY INFORMATION:

I. General Information

A. Does this apply to me?

This notice is directed to the public in general, and may be of interest to persons who currently or may manufacture (including import), process, distribute, use, and/or dispose of DINP. Since other entities may also be interested in these risk evaluations, the EPA has not attempted to describe all the specific entities that may be affected by this action.

B. What is EPA's authority for taking this action?

TSCA section 6(b) requires that EPA conduct risk evaluations on existing chemicals and identifies the minimum components EPA must include in all chemical substance risk evaluations. 15 U.S.C. 2605(b). The risk evaluation must not consider costs or other non-risk factors. 15 U.S.C. 2605(b)(4)(F)(iii). The specific risk evaluation process is set out in 40 CFR part 702 and summarized on EPA's website at https://www.epa.gov/assessing-and-managing-chemicals-under-tsca/risk-evaluations-existing-chemicals-under-tsca.

TSCA section 6(b) also allows manufacturers of a chemical to request an EPA-conducted risk evaluation on the chemical. TSCA required EPA to develop the form and manner under which these requests must be made, and the criteria for which EPA will determine whether to grant a request. These requirements and criteria are set out in 40 CFR 702.37.

Under 40 CFR 702.37(e)(3), EPA is required to assess whether the circumstances identified in a manufacturer request for a risk evaluation constitute conditions of use (as defined under TSCA section (3)(4) and implementing regulations (40 CFR 702.33)), and whether those conditions of use warrant inclusion within the scope of a risk evaluation for the chemical substance. EPA will also assess what, if any, additional conditions of use warrant inclusion within the scope of a risk evaluation for the chemical substance. EPA will conduct these assessments based on the same considerations applied in the same manner as it would for a risk evaluation in the EPA-initiated risk evaluation process.

No later than 60 business days after receiving a manufacturer request for risk evaluation that EPA has determined to be facially complete (meeting the criteria set forth in 40 CFR 702.37(e)(1)), EPA is required to submit for publication the receipt of the request in the Federal Register, open a public docket for the request (which must contain the manufacturer request and EPA's possible additional conditions of use), and provide no less than 45 calendar days for public comment. This notice identifies the docket containing the manufacturer request, EPA's possible additional conditions of use, and the basis for including those possible additional conditions of use. During the public comment period, the public may submit comments and information relevant to the requested risk evaluation, as well as the additional possible conditions of use EPA is including in the docket.

After the comment period closes, the Agency has up to 60 days to either grant or deny the request to conduct a risk evaluation under 40 CFR 702.37(e)(6). EPA will review the request along with any additional information received during the comment period, and grant the request if it determines the request meets all of the following requirements listed under 40 CFR 702.37(e)(6)(ii):

• The circumstances identified in the request constitute conditions of use that warrant inclusion in a risk evaluation for the chemical substance;

• EPA has all the information needed to conduct such risk evaluation on the conditions of use that were the subject of the request; and

• All other criteria and requirements of 40 CFR 702.37 have been met.

C. What action is EPA taking?

EPA is announcing the availability of and soliciting public comment on a manufacturer request for a risk evaluation of DINP under TSCA that is described in detail in Unit II. Also available in the docket associated with this request are the manufacturer request and possible additional conditions of use EPA identified for inclusion in a risk evaluation of DINP. This notice satisfies 40 CFR 702.37(e)(4).

C. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Summary of This Manufacturer Request

On May 24, 2019, EPA received a manufacturer request for a TSCA risk evaluation of DINP that was made by Evonik Corporation, ExxonMobil Chemical Company and Teknor Apex, through the American Chemistry Council's High Phthalates Council. After determining the request was facially complete (i.e., EPA determined that the request appeared to be consistent with the requirements in 40 CFR 702.37(b) through (d), such as including all the necessary information in those paragraphs), EPA notified the public of the receipt of the request on June 13, 2019 via a listserv announcement to stakeholders.

A. What is di-isononyl phthalate (DINP)?

DINP is a phthalate used as a plasticizer and paint additive in consumer and commercial products, as well as numerous manufacturing applications. There are two commercial products the manufacturer submitted for risk evaluation under the name DINP. The first commercial product, which the manufacturer refers to as DINP-1, can be represented by the substance with Chemical Abstracts Service Registry Number (CASRN) 68515-48-0. The second commercial product, which the manufacturer refers to as DINP-2 or DINP-3, can be represented by the substance with CASRN 28553-12-0.

B. What are the conditions of use?

The manufacturer request for a risk evaluation of DINP identifying conditions of use of interest to the manufacturer is included in docket EPA-HQ-OPPT-2018-0436. Subject to further analysis and public comment, EPA anticipates including activities identified in the request as conditions of use in the risk evaluation of DINP.

EPA has identified additional conditions of use pursuant to 40 CFR 702.37(e)(3), which are also included in docket EPA-HQ-OPPT-2018-0436.

III. Request for Comment

The docket associated with this request contains the manufacturer request (excluding information claimed as CBI) and EPA's possible additional conditions of use as described 40 CFR 702.37(e)(3), and the basis for these possible additions. During the comment period, the public may submit comments and information relevant to the requested risk evaluation; in particular, commenters are encouraged to identify any information not included in the request that the commenters believe would be needed to conduct a risk evaluation, and to provide any other information relevant to EPA's possible additional conditions of use, such as information on other conditions of use of the chemical than those included in the request or in EPA's additional conditions of use. 40 CFR 702.37(e)(4). In addition, at any time prior to the end of the comment period, the requesting manufacturer(s) may supplement the original request with any new information it receives. 40 CFR 702.37(e)(5).

Authority: 15 U.S.C. 2601 et seq.

Dated: August 13, 2019.
Andrew R. Wheeler,
Administrator.

[FR Doc. 2019-17788 Filed 8-16-19; 8:45 am]

BILLING CODE 6560-50-P